DEPARTMENT OF COMMERCE

Foreign-Trade Zones Board

[B-12-2018]

Foreign-Trade Zone 135—Palm Beach, Florida; Application for Reorganization and Expansion Under Alternative Site Framework

An application has been submitted to the Foreign-Trade Zones (FTZ) Board by the Port of Palm Beach District, grantee of FTZ 135, requesting authority to reorganize and expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on February 9, 2018.

FTZ 135 was approved by the FTZ Board on March 16, 1987 (Board Order 348, 52 FR 9903, March 27, 1987) and expanded on November 8, 2002 (Board Order 1258, 67 FR 70046, November 20, 2002). The current zone includes the following sites: Site 1 (25 acres)—Located at Port of Beach Miami Terminal, 1 mile from the Lake Worth Inlet to the Atlantic Ocean, Riviera Beach; Site 2 (37 acres)—industrial site located 2 miles due west of the terminal at I-95 and Highway 710, Riviera Beach; Site 3 (11 acres)—TravelPro USA, 700 Banyan Trail, Boca Raton; Site 4 (66 acres)—Martin County Airport, 1801 SE Airport Road, Stuart; Site 5 (24 acres total, three parcels)—Palm Beach International Airport, 1300 N. Perimeter Road, West Palm Beach; Site 6 (286 acres, three parcels)—North Beach County Airport, located adjacent to Beeline Highway (SR 710), North Palm Beach; Site 7 (3.56 acres, 155,000 sq. ft.)—warehouse, 1440 West Indiantown Road, Jupiter; Site 8 (170 acres)—within the Palm Beach Park of Commerce, located on the Beeline Highway (SR 710) near Pratt Whitney Road, south of Indiantown Road, Palm Beach; Site 9 (1.44 acres)—Team International Corporation, 6643 42nd Terrace, Riviera Beach; Site 10 (11.63 acres)—Viking Sport Cruisers, Inc., Palm Harbor Marina, 400 North Flagler Drive, West Palm Beach; Site 11 (31.56 acres)—Rybovich, 4200 North Flagler Drive, West Palm Beach; and Site 12 (1.66 acres)—Berth One International, 1 East 11th Street, Riviera Beach. Sites 9 through 12 were designated through minor boundary modifications pending the grantee's submission of its application to reorganize and expand the zone (including Sites 9 through 12) under the ASF.

The grantee's proposed service area under the ASF would be Palm Beach County, Martin County and St. Lucie County (with the exception of Sites 1 through 4 of FTZ 218, which are located in St. Lucie County), as described in the application. If approved, the grantee would be able to serve sites throughout the service area based on companies' needs for FTZ designation. The application indicates that the proposed service area is within and adjacent to the West Palm Beach Customs and Border Protection port of entry.

The applicant is requesting authority to reorganize its existing zone to include Sites 1, 4, 5, 6 and 8 as “magnet” sites and Sites 2, 3, 7, 9, 10, 11 and 12 as “usage-driven” sites. The ASF allows for the possible exemption of one magnet site from the “sunset” time limits that generally apply to sites under the ASF, and the applicant proposes that Site 1 be so exempted.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary at the address below. The closing period for their receipt is April 23, 2018. Rebuttal comments in response to material submitted during the foregoing period may be submitted during the subsequent 15-day period to May 7, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Qahira El-Amin at Qahira.El-Amin@trade.gov or (202) 482-5928.

Dated: February 14, 2018.
Andrew McGilvray,
Executive Secretary.

[FR Doc. 2018-03517 Filed 2-20-18; 8:45 am]

BILLING CODE 3510-DS-P